NATIONAL TRANSPORTATION SAFETY BOARD

Investigative Hearing

On July 30, 2016 at 7:42 a.m. central daylight time, a Kubicek BB85Z hot air balloon, operated by Heart of Texas Balloons, registration N2469L, impacted electrical transmission lines and crashed into a pasture near Lockhart, TX. The pilot and 15 passengers were fatally injured by impact and fire. The balloon was destroyed. Witness and weather observation information indicated low clouds and fog in the general area. The flight was a commercial sightseeing tour flight, operated under the provisions of 14 CFR part 91.

The investigative hearing is being held to discuss the circumstances of the accident flight and safety issues regarding commercial balloon tour operations. Areas that will be discussed include operations of large passenger carrying balloons, balloon pilot training and decision-making, weather factors relevant to accident, FAA regulation and oversight of commercial balloons, tour operator best practices, and medical factors and certification requirements relevant to the accident.

Parties to the hearing include the Federal Aviation Administration, the Balloon Federation of America, and Kubicek Balloons.

Order of Proceedings

1. Opening Statement by the Chairman of the Board of Inquiry

2. Introduction of the Board of Inquiry and Technical Panel

3. Introduction of the Parties to the Hearing

4. Introduction of Exhibits by Hearing Officer

5. Overview of the incident and the investigation by Investigator-In-Charge

6. Calling of Witnesses by Hearing Officer

7. Closing Statement by the Chairman of the Board of Inquiry

Additional information can be found on the Web at: http://www.ntsb.gov/news/events/Pages/2016-balloon-inv-hearing.aspx.

The accident docket is DCA16MA204.

The Investigative Hearing will be held in the NTSB Board Room and Conference Center, located at 429 L'Enfant Plaza E. SW., Washington, DC, on Friday, December 9, 2016 at 9:00 a.m. The public can view the hearing in person or by live Webcast at www.ntsb.gov. Webcast archives are generally available by the end of the next day following the hearing, and Webcasts are archived for a period of 3 months from after the date of the event.

Individuals requesting specific accommodations should contact Ms. Rochelle McCallister at (202) 314-6305 or by email at Rochelle.McCallister@ntsb.gov byWednesday, November 30, 2016.

NTSB Media Contact: Mr. Eric Weiss—eric.weiss@ntsb.gov.

NTSB Investigative Hearing Officer: Mr. William English—bill.english@ntsb.gov

Dated: November 21, 2016.
Candi R. Bing,
Federal Register Liaison Officer.

[FR Doc. 2016-28382 Filed 11-23-16; 8:45 am]

BILLING CODE 7533-01-P